DEPARTMENT OF HOMELAND SECURITY

Federal Emergency Management Agency

44 CFR Part 67

Final Flood Elevation Determinations

AGENCY: Federal Emergency Management Agency (FEMA), Department of Homeland Security, Mitigation Division.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, 500 C Street, SW., Washington, DC 20472, (202) 646-3151.

SUPPLEMENTARY INFORMATION: FEMA makes the final determinations listed below for the modified BFEs for each community listed. These modified elevations have been published in newspapers of local circulation and ninety (90) days have elapsed since that publication. The Mitigation Division Director has resolved any appeals resulting from this notification.

This final rule is issued in accordance with Section 110 of the Flood Disaster Protection Act of 1973, 42 U.S.C. 4104, and 44 CFR Part 67. The Agency has developed criteria for floodplain management in floodprone areas in accordance with 44 CFR Part 60.

Interested lessees and owners of real property are encouraged to review the proof Flood Insurance Study and FIRM available at the address cited below for each community. The BFEs and modified BFEs are made final in the communities listed below. Elevations at selected locations in each community are shown.

National Environmental Policy Act. This rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground modified | Communities affected
Cook County, Illinois and Incorporated Areas
Docket No.: FEMA-P-7921
Buffalo Creek | Just upstream of Elmhurst Road | *653 | Village of Wheeling.
| Just downstream of Aptakisic Road | *667
Wheeling Drainage Ditch | Just downstream of Wolf Road | *641 | Cook County (Unincorporated Areas).
| Approximately 400 feet downstream of Elmhurst Road | *652 | Village of Wheeling.
William Rogers Memorial Diversion Channel | Approximately 300 feet upstream of the confluence with Des Plaines River | *644 | Cook County (Unincorporated Areas).
| At divergence from Wheeling Drainage Ditch | *646 | Village of Wheeling.
# Depth in feet above ground.
* National Geodetic Vertical Datum.
+ North American Vertical Datum.
ADDRESSES
Cook County, Illinois (Unincorporated Areas)
Maps are available for inspection at Cook County Building and Zoning Department, 69 West Washington, Suite 2830, Chicago, Illinois.
Village of Wheeling, Cook County, Illinois
Maps are available for inspection at Wheeling Village Hall, Engineer's Office, 255 West Dundee Road, Wheeling, Illinois.
Calhoun County, South Carolina and Incorporated Areas
Docket No.: FEMA-B-7462
Lake Marion | At the Sumter County/Clarendon County line | +76 | Calhoun County (Unincorporated Areas).
| At the Calhoun County/Orangeburg County line | +76
# Depth in feet above ground.
* National Geodetic Vertical Datum.
+ North American Vertical Datum.
ADDRESSES
Unincorporated Areas of Calhoun County
Maps are available for inspection at Calhoun County, Office of Building and Planning, 102 Courthouse Drive, Suite 112, St. Matthews, SC 29135.
Maury County, Tennessee and Incorporated Areas
Docket No.: FEMA-B-7458
Duck River | Approximately 6,680 feet downstream of the confluence Roberts Bend Branch | +562 | Maury County (Unincorporated Areas).
| Approximately 2,040 feet downstream of the confluence Little Bigby Creek | +576
Duck River | Approximately 1,800 feet downstream of the confluence Bear Creek | +588 | Maury County (Unincorporated Areas), City of Columbia.
| Approximately 3,680 feet upstream of the confluence Flat Creek | +634
Fountain Creek | At the confluence of Fountain Creek with Duck River | +604 | Maury County (Unincorporated Areas).
| Approximately 3,000 feet upstream of Culleoka Highway | +663
Silver Creek | At the confluence of Silver Creek with Fountain Creek | +604 | Maury County (Unincorporated Areas).
| Approximately 200 feet upstream of Kerr Road | +661
# Depth in feet above ground.
* National Geodetic Vertical Datum.
North America Vertical Datum.
(NOTE: NGVD+.069=NAVD).
ADDRESSES
Unincorporated Areas of Maury County
Maps are available for inspection at the Community Map Repository, County Courthouse, 41 Public Square, Columbia, TN 38401.
City of Columbia
Maps are available for inspection at the Community Map Repository, 707 North Main Street, Columbia, TN 38401.

(Catalog of Federal Domestic Assistance No. 83.100, “Flood Insurance.”)

Dated: November 6, 2006.
David I. Maurstad,
Director, Mitigation Division, Federal Emergency Management Agency, Department of Homeland Security.

[FR Doc. E6-19116 Filed 11-13-06; 8:45 am]

BILLING CODE 9110-12-P